NATIONAL SCIENCE FOUNDATION

Faster Administration of Science and Technology Education and Research (FASTER) Community of Practice (CoP)

AGENCY: The Networking and Information Technology Research and Development (NITRD) National Coordination Office (NCO), National Science Foundation.

ACTION: Notice of meetings.

Contact: Mr. Fouad Ramia at ramia@nitrd.gov or (703) 292-4873. Reference the NITRD Web site at: http://www.nitrd.gov/.

Date/Location: The FASTER CoP meetings will be held monthly (July 2016-June 2017) at the National Science Foundation, 4201 Wilson Boulevard, Arlington, VA 22230. Please note that public seating for these meetings is limited and is available on a first-come, first-served basis. WebEx and/or Teleconference participation is available for each meeting. Please reference the FASTER CoP Web site for meeting dates and times.

FASTER Web site: The agendas, minutes, and other meeting materials and information can be found on the FASTER Web site at: https://www.nitrd.gov/nitrdgroups/index.php?title=FASTER.

SUMMARY: The goal of the FASTER CoP is to enhance collaboration and accelerate agencies' adoption of advanced IT capabilities developed by Government-sponsored IT research. FASTER, seeks to accelerate deployment of promising research technologies; share protocol information, standards, and best practices; and coordinate and disseminate technology assessment and testbed results.

Public Comments: The government seeks individual input; attendees/participants may provide individual advice only. Members of the public are welcome to submit their comments to Faster-comments@nitrd.gov. Please note that under the provisions of the Federal Advisory Committee Act (FACA), all public comments and/or presentations will be treated as public documents and will be made available to the public via the FASTER CoP Web site.

Submitted by the National Science Foundation in support of the Networking and Information Technology Research and Development (NITRD) National Coordination Office (NCO) on June 13, 2016.

Suzanne H. Plimpton,
Reports Clearance Officer, National Science Foundation.

[FR Doc. 2016-14251 Filed 6-15-16; 8:45 am]

BILLING CODE 7555-01-P